DEPARTMENT OF COMMERCE

International Trade Administration

[A-570-001]

Potassium Permanganate from the People's Republic of China: Extension of Time Limit for the Final Results of Antidumping Duty Administrative Review

AGENCY: Import Administration, International Trade Administration, Department of Commerce.

EFFECTIVE DATE: June 11, 2003.

FOR FURTHER INFORMATION CONTACT: John Conniff or Drew Jackson, AD/CVD Enforcement, Office 4, Group II, Import Administration, International Trade Administration, U.S. Department of Commerce, 14th Street and Constitution Avenue, NW, Washington, DC 20230; telephone (202) 482-1009 or (202) 482-4406, respectively.

TIME LIMITS:

Statutory Time Limits

Section 751(a)(3)(A) of the Tariff Act of 1930, as amended (the Act), requires the Department of Commerce (the Department) to make a preliminary determination within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

Background

On February 26, 2002, the Department published a notice of initiation for the administrative review of the antidumping duty order on potassium permanganate from the People's Republic of China, covering the period January 1, 2001, through December 31, 2001. See Initiation of Antidumping and Countervailing Duty Administrative Reviews, 67 FR 8780. On February 18, 2003, the Department published the preliminary results of its review. See Potassium Permanganate from the People's Republic of China: Preliminary Results of Antidumping Duty Administrative Review, 68 FR 7768. In our notice of preliminary results, we stated our intention to issue the final results of this review no later than 120 days after publication of the preliminary results. The final results are currently due on June 18, 2003.

Extension of Time Limit for Final Results of Review

We determine that it is not practicable to complete the final results of this review within the original time limit. Therefore, the Department is extending the time limit for completion of the final results until no later than August 17, 2003. See Decision Memorandum from Thomas F. Futtner to Holly A. Kuga, dated concurrently with this notice, which is on file in the Central Records Unit, Room B-099 of the Department's main building.

This extension is in accordance with section 751(a)(3)(A) of the Act.

Dated: June 5, 2003.
Holly A. Kuga,
Acting Deputy Assistant Secretary for Import Administration, Group II.

[FR Doc. 03-14780 Filed 6-10-03; 8:45 am]

BILLING CODE 3510-DS-S